INTERNATIONAL TRADE COMMISSION

[Investigation Nos. 701-TA-506 and 508 and 731-TA-1238-1243 (Final)]

Non-Oriented Electrical Steel From China, Germany, Japan, Korea, Sweden, and Taiwan

Determinations

On the basis of the record ¹ developed in the subject investigations, the United States International Trade Commission (“Commission”) determines, pursuant to sections 705(b) and 735(b) of the Tariff Act of 1930 (19 U.S.C. 1671d(b)) and (19 U.S.C. 1673d(b)) (“the Act”), that an industry in the United States is materially injured by reason of imports of non-oriented electrical steel from China, Germany, Japan, Korea, Sweden, and Taiwan, provided for in subheadings 7225.19.00, 7226.19.10, and 7226.19.90 of the Harmonized Tariff Schedule of the United States, that have been found by the Department of Commerce to be sold in the United States at less than fair value (“LTFV”), and by reason of imports from China and Taiwan that have been found by Commerce to be subsidized by the governments of China and Taiwan.² The Commission also finds that imports subject to Commerce's affirmative critical circumstances determinations are not likely to undermine seriously the remedial effect of those countervailing and antidumping duty orders to be issued on non-oriented electrical steel from China, Germany, Japan, and Sweden.

¹ The record is defined in sec. 207.2(f) of the Commission's Rules of Practice and Procedure (19 CFR 207.2(f)).

² Chairman Meredith M. Broadbent dissented.

Background

The Commission instituted these investigations effective September 30, 2013, following receipt of a petition filed with the Commission and Commerce by AK Steel Corp., West Chester, Ohio. The final phase of these investigations was scheduled by the Commission following notification of preliminary determinations by Commerce that imports of non-oriented electrical steel from China and Taiwan were subsidized within the meaning of section 703(b) of the Act (19 U.S.C. 1671b(b)) and that imports of non-oriented electrical steel from China, Germany, Japan, Korea, Sweden, and Taiwan were sold at LTFV within the meaning of 733(b) of the Act (19 U.S.C. 1673b(b)).³ Notice of the scheduling of the final phase of the Commission's investigations and of a public hearing to be held in connection therewith was given by posting copies of the notice in the Office of the Secretary, U.S. International Trade Commission, Washington, DC, and by publishing the notice in the Federal Register on July 11, 2014 (79 FR 40143). The hearing was held in Washington, DC, on October 8, 2014, and all persons who requested the opportunity were permitted to appear in person or by counsel.

³ In its preliminary countervailing duty determination, Commerce found that imports of non-oriented electrical steel were not being and not likely to be subsidized by the government of Korea (79 FR 16295, March 25, 2014). Following a final negative countervailing duty determination by Commerce with respect to non-oriented electrical steel from Korea (79 FR 61605, October 14, 2014), the Commission terminated investigation No. 701-TA-507 (79 FR 64408, October 29, 2014).

The Commission completed and filed its determinations in these investigations on November 25, 2014. The views of the Commission are contained in USITC Publication 4502 (November 2014), entitled Non-Oriented Electrical Steel from China, Germany, Japan, Korea, Sweden, and Taiwan: Investigation Nos. 701-TA-506 and 508 and 731-TA-1238-1243 (Final).

By order of the Commission.
Issued: November 25, 2014.
Lisa R. Barton,
Secretary to the Commission.

[FR Doc. 2014-28249 Filed 12-1-14; 8:45 am]

BILLING CODE 7020-02-P